DEPARTMENT OF HOMELAND SECURITY

Coast Guard

33 CFR Part 165

[Docket No. USCG-2025-0857]

Safety Zone; Brandon Road Lock and Dam to Lake Michigan Including Des Plaines River, Chicago Sanitary and Ship Canal, Chicago River, and Calumet-Saganashkee Channel, Chicago, IL

AGENCY: Coast Guard, DHS.

ACTION: Notice of enforcement of regulation.

SUMMARY: The Coast Guard will enforce a segment of the Safety Zone, Brandon Road Lock and Dam to Lake Michigan including Des Plaines River, Chicago Sanitary and Ship Canal, Chicago River, and Calumet-Saganashkee Channel Chicago, IL, on the Chicago River (South Branch) and Chicago Sanitary and Ship Canal for the Tough Cup XI Regatta on September 27, 2025. This action is intended to provide for the safety of life on navigable waterways during a crew regatta event. During the enforcement period listed below, entry into, transiting, or anchoring within the safety zone is prohibited unless authorized by the Captain of the Port (COTP) Lake Michigan or a designated representative.

DATES: The regulations in 33 CFR 165.930 will be enforced for the Chicago River (South Branch) regulated area in § 165.930(a)(3) and the Chicago Sanitary and Ship Canal regulated area in § 165.930(a)(2) from 7 a.m. through 2 p.m. on September 27, 2025.

FOR FURTHER INFORMATION CONTACT: If you have questions about this notice of enforcement, call or email Lieutenant Kyle Goetz, Marine Safety Unit Chicago, U.S. Coast Guard; telephone 630-986-2155, email: D09-SMB-MSUChicago-WWM@uscg.mil.

SUPPLEMENTARY INFORMATION: The Coast Guard will enforce a safety zone regulation in 33 CFR 165.930 for a crew regatta event from 7:00 a.m. through 2:00 p.m. on September 27, 2025. The regulated area for this event is the Chicago River (South Branch) specified in § 165.930(a)(3), and the Chicago Sanitary and Ship Canal specified in § 165.930(a)(2) up to the South Pulaski Road Bridge at Mile Marker 318.3.

All vessels must obtain permission from the COTP Lake Michigan or designated on-scene representative to enter, move within, or exit this safety zone during the enforcement time listed in this notice of enforcement. Vessels and persons granted permission to enter the safety zone must obey all lawful orders or directions of the COTP Lake Michigan or designated on-scene representative. Upon being hailed by siren, radio, flashing light, or other means, the operator of a vessel must proceed as directed.

In addition to this notification of enforcement in the Federal Register, the Coast Guard will provide the maritime community with notification of this enforcement period via Broadcast Notice to Mariners. The COTP Lake Michigan may be reached by contacting the Coast Guard Sector Lake Michigan Command Center at (833) 900-2247. An on-scene designated representative may be reached via VHF-FM Channel 16.

Dated: September 19, 2025.
Rhianna N. Macon,
Captain, U.S. Coast Guard, Captain of the Port, Lake Michigan.

[FR Doc. 2025-18480 Filed 9-23-25; 8:45 am]

BILLING CODE 9110-04-P